DEPARTMENT OF LABOR

Employment and Training Administration

Comment Request for Information Collection for the Trade Activity Participant Report (TAPR), Extension Without Revisions

AGENCY: Employment and Training Administration (ETA), Labor.

ACTION: Notice.

SUMMARY: The Department of Labor (Department), as part of its continuing effort to reduce paperwork and respondent burden, conducts a preclearance consultation program to provide the public and Federal agencies with an opportunity to comment on proposed and/or continuing collections of information in accordance with the Paperwork Reduction Act of 1995 [44 U.S.C. 3506(c)(2)(A)]. This program helps ensure that requested data can be provided in the desired format, reporting burden (time and financial resources) is minimized, collection instruments are clearly understood, and the impact of collection requirements on respondents can be properly assessed.

Currently, ETA is soliciting comments concerning the collection of data about the Trade Activity Participant Report (OMB No. 1205-0392), which provides information on participant activities and performance outcomes for those served under the Trade Adjustment Assistance Program, as authorized under the Trade Act of 1974, as amended.

DATES: Written comments must be submitted to the office listed in the ADDRESSES section below on or before April 4, 2016.

ADDRESSES: Submit written comments to Susan Worden, Office of Trade Adjustment Assistance Room N-5428, Employment and Training Administration, U.S. Department of Labor, 200 Constitution Avenue NW., Washington, DC 20210. Telephone number: 202-693-3517 (this is not a toll-free number). Individuals with hearing or speech impairments may access the telephone number above via TTY by calling the toll-free Federal Information Relay Service at 1-877-889-5627 (TTY/TDD). Fax: 202-693-3585 Email: worden.susan@dol.gov. A copy of the proposed information collection request (ICR) can be obtained by contacting the office listed above.

SUPPLEMENTARY INFORMATION:

I. Background

The Department uses information from the Trade Activity Participant Report Form completed by the states to establish state funding needs and evaluate the effectiveness of state administration of the Trade Adjustment Assistance Program under the Trade Act. The Department is requesting a three year extension of the currently approved collection in order to continue to meet reporting requirements in sections 239 and 249B of the Trade Act, as amended.

II. Review Focus

The Department is particularly interested in comments which:

• Evaluate whether the proposed collection of information is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

Type of Review: extension without changes.

Title: Trade Activity Participant Report.

OMB Number: 1205-0392.

Affected Public: State, Local or Tribal Governments.

Form(s): Trade Activity Participant Report.

Total Annual Respondents: 50.

Annual Frequency: Quarterly.

Total Annual Responses: 200.

Average Time per Response: 47.5 hours.

Estimated Total Annual Burden Hours: 9,500.

Total Annual Burden Cost for Respondents: $0.

Comments submitted in response to this request will be summarized and/or included in the request for Office of Management and Budget approval of the ICR; they will also become a matter of public record.

Portia Wu,
Assistant Secretary for Employment and Training, Labor.

[FR Doc. 2016-01849 Filed 2-1-16; 8:45 am]

BILLING CODE 4510-FN-P